DEPARTMENT OF HEALTH AND HUMAN SERVICES

Centers for Medicare & Medicaid Services

[Document Identifier: CMS-R-21, CMS-R-148, CMS-381 and CMS-10515]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by September 25, 2014:

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806, or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Withholding Medicare Payments to Recover Medicaid Overpayments and Supporting Regulations in 42 CFR 447.31; Use: Certain Medicaid providers that are subject to offsets for the collection of Medicaid overpayments may terminate or substantially reduce their participation in Medicaid, leaving the state Medicaid agency unable to recover the amounts due. Recovery procedures allow for determining the amount of overpayments and offsetting the overpayments by withholding the provider's Medicare payments. To effectuate the withholding, the state agency must provide their respective CMS regional office with certain documentation that identifies the provider and the Medicaid overpayment amount. The agency must also demonstrate that the provider was notified of the overpayment and that demand for the overpayment was made. An opportunity to appeal the overpayment determination must be afforded to the provider by the Medicaid state agency. Lastly, Medicaid state agencies must notify CMS when to terminate the withholding. Form Number: CMS-R-21 (OMB control number: 0938-0287); Frequency: Occasionally; Affected Public: State, Local, or Tribal Governments; Number of Respondents: 54; Total Annual Responses: 27; Total Annual Hours: 81. (For policy questions regarding this collection contact Stuart Goldstein at 410-786-0694).

2. Type of Information Collection Request: Extension of a currently approved collection; Title of Information Collection: Limitations on Provider Related Donations and Health Care Related Taxes; Limitation on Payment to Disproportionate Share Hospitals; Use: States may request a waiver of the broad based and uniformity tax program requirements. Each state must demonstrate that its tax program(s) do not violate the hold harmless provision. Additionally, state Medicaid agencies must report (quarterly) on health care related taxes collected and the source of provider related donations received by the state or unit of local government. Each state must maintain, in readily reviewable form, supporting documentation that provides a detailed description of each donation and tax program being reported, as well as the source and use of all donations received and collected. Without this information, the amount of Federal financial participation payable to a state cannot be determined. Form Number: CMS-R-148 (OMB control number: 0938-0618); Frequency: Quarterly and occasionally; Affected Public: State, Local, or Tribal Governments; Number of Respondents: 50; Total Annual Responses: 40; Total Annual Hours: 3,200. (For policy questions regarding this collection contact Stuart Goldstein at 410-786-0694).

3. Type of Information Collection Request: Revision of a currently approved collection; Title of Information Collection: Identification of Extension Units of Medicare Approved Outpatient Physical Therapy/Outpatient Speech Pathology (OPT/OSP) Providers and Supporting Regulations; Use: The provider uses the form to report to the state survey agency extension locations that it has added since the date of last report. The form is used by the state survey agencies and by our regional offices to identify and monitor extension locations to ensure their compliance with the federal requirements for the providers of outpatient physical therapy and speech-language pathology services. Form Number: CMS-381 (OMB control number: 0938-0273); Frequency: Annually; Affected Public: Private Sector; Business or other for-profit and not-for-profit institutions; Number of Respondents: 2,260; Total Annual Responses: 2,260; Total Annual Hours: 565. (For policy questions regarding this collection contact James Cowher at 410-786-1948.)

4. Type of Information Collection Request: Extension of a currently approved collection; Title of Information Collection: Payment Collection Operations Contingency Plan Under sections 1401, 1411, and 1412 of the Affordable Care Act and 45 CFR part 155 subpart D; Use: An Exchange makes an advance determination of tax credit eligibility for individuals who enroll in Qualified Health Plan (QHP) coverage through the Exchange and seek financial assistance. Using information available at the time of enrollment, the Exchange determines whether the individual meets the income and other requirements for advance payments and the amount of the advance payments that can be used to pay premiums. Advance payments are made periodically under section 1412 of the Affordable Care Act to the issuer of the QHP in which the individual enrolls. Section 1402 of the Affordable Care Act provides for the reduction of cost sharing for certain individuals enrolled in a QHP through an Exchange, and section 1412 of the Affordable Care Act provides for the advance payment of these reductions to issuers. The statute directs issuers to reduce cost sharing for essential health benefits for individuals with household incomes between 100 and 400 percent of the Federal poverty level (FPL) who are enrolled in a silver level QHP through an individual market Exchange and are eligible for advance payments of the premium tax credit. Health insurance issuers will manually enter enrollment and payment data into a Microsoft Excel-based spreadsheet, and submit the information to HHS.

The data collection will be used by HHS to make payments or collect charges from issuers under the following programs: Advance payments of the premium tax credit, advanced cost-sharing reductions, and Marketplace user fees. HHS will use the information collected to make payments and collect charges in January 2014 and for a number of months thereafter, as may be required based on HHS's operational progress. Form Number: CMS-10515 (OMB control number: 0938-1217); Frequency: Monthly; Affected Public: Private sector (Business or other for-profits and not-for-profit institutions); Number of Respondents: 575; Total Annual Responses: 7,475; Total Annual Hours: 94,373. (For policy questions regarding this collection contact Jaya Ghildiyal at 301-492-5149).

Dated: August 21, 2014.
Martique Jones,
Director, Regulations Development Group, Office of Strategic Operations and Regulatory Affairs.

[FR Doc. 2014-20255 Filed 8-25-14; 8:45 am]

BILLING CODE 4120-01-P